ENVIRONMENTAL PROTECTION AGENCY

40 CFR Part 52

[EPA-R05-OAR-2023-0493; FRL-12089-01-R5]

Air Plan Approval; Ohio; Volatile Organic Compounds

AGENCY: Environmental Protection Agency (EPA).

ACTION: Proposed rule.

SUMMARY: The Environmental Protection Agency (EPA) is proposing to approve a September 28, 2023, State Implementation Plan (SIP) submittal from the Ohio Environmental Protection Agency (Ohio EPA). The SIP submittal consists of a source-specific limitation for a flexographic printing line cold cleaner at the Valgroup company's plastic extrusion plant in Findlay, Ohio. The source-specific limitation reflects the technological differences between the facility's new control unit and established cold cleaner requirements currently established in Ohio's SIP. Ohio EPA has determined that the source-specific limit for the cold cleaner is more stringent than existing cold cleaner limits in the Ohio SIP. The limitation is established through the Ohio SIP for control of emissions of volatile organic compounds (VOCs) from stationary sources and is listed as an enforceable condition in the facility's operating permit, issued by Ohio EPA on July 18, 2023.

DATES: Comments must be received on or before November 6, 2024.

ADDRESSES: Submit your comments, identified by Docket ID No. EPA-R05-OAR-2023-0493 at https://www.regulations.gov, or via email to langman.michael@epa.gov. For comments submitted at Regulations.gov, follow the online instructions for submitting comments. Once submitted, comments cannot be edited or removed from the docket. EPA may publish any comment received to its public docket. Do not submit electronically any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Anthony Maietta, Air and Radiation Division (AR18J), Environmental Protection Agency, Region 5, 77 West Jackson Boulevard, Chicago, Illinois 60604, (312) 353-8777, maietta.anthony@epa.gov. The EPA Region 5 office is open from 8:30 a.m. to 4:30 p.m., Monday through Friday, excluding Federal holidays.

SUPPLEMENTARY INFORMATION: Throughout this document whenever “we,” “us,” or “our” is used, we mean EPA.

I. What is the background for this action?

The Ohio SIP contains VOC emissions control requirements for solvent metal cold cleaning (metal parts washing) at Title 3745, Chapter 21, Rule 09 of the Ohio Administrative Code (OAC 3745-21-09), more specifically at OAC 3745-21-09(O)(2). On December 27, 2022, Valgroup applied for a new cold cleaning unit at its Findlay facility to be added to its operating permit. Paragraphs OAC 3745-21-09(O)(2)(c)(i) and (ii) of the SIP require the installation of a freeboard that gives a freeboard ratio greater than or equal to 0.7, and a water cover with usage of a solvent that is heavier than water. However, Valgroup's new cold cleaner is not designed in such a way that these methods could apply to the equipment. In its December 27, 2022, request, Valgroup indicated that installation of either device as described in paragraphs OAC 3745-21-09(O)(2)(c)(i) and (ii) was technically infeasible. Valgroup requested approval of the installation of a regenerative thermal oxidizer (RTO) to control its new cold cleaner, as allowed under paragraph OAC 3745-21-09(O)(2)(c)(iii) which indicates that “[o]ther systems of equivalent control . . . approved by the director” may be installed.

In an April 17, 2023, Equivalent Control Determination letter to Ohio EPA, Valgroup demonstrated that installation of the requested RTO would provide a greater control efficiency than available through OAC 3745-21-09(O)(2)(c)(i) and (ii). Upon review of the Equivalent Control Determination, Ohio EPA agreed with Valgroup's request. Ohio EPA made a draft permit-to-install available for public comment, with the option for a commenter to request a public hearing on the permit. The public comment and hearing request period was held from June 17 to July 17, 2023. No comments were received and no hearing was requested. Ohio EPA issued the final permit-to-install to Valgroup on July 18, 2023. The new permit, Ohio EPA permit number P0133504, establishes operating, recordkeeping, and reporting requirements for the new RTO emissions unit at the Findley plant (Ohio facility ID 0332010121).

As required in the Ohio SIP for VOCs from stationary sources under OAC 3745-21-09(B)(2), in order to approve a source-specific control option under OAC 3745-21-09(O)(2)(c)(iii), the revision must be submitted to EPA and approved as a revision to the Ohio SIP. On September 28, 2023, Ohio EPA submitted a request for EPA to approve the source-specific terms and conditions from Valgroup's July 18, 2023, permit-to-install into the Ohio SIP, which contains the RTO and its operating, recordkeeping, and reporting requirements.

II. What is EPA's analysis of the source-specific VOC limit?

The cold cleaning unit is part of a flexographic printing line that Valgroup submitted a permit application to install in December 2022. The cold cleaner utilizes a solvent greater than 0.6 pounds per square inch absolute measured at one hundred degrees Fahrenheit to clean parts of the flexographic printing line after use. The solvent vapor pressure requires Valgroup to comply with one of the three vapor control measures for cold cleaners outlined in Ohio's SIP at OAC 3745-21-09(O)(2)(c).

Typically, cold cleaners resemble a large top hinged-lid tank containing the solvent that metal parts are dipped into to be cleaned. The distance of the tank's side walls from the solvent surface to the top edge of the tank is called the freeboard. OAC 3749-21-09(O)(2)(c)(1) requires cold cleaners to have a `freeboard ratio', defined as the freeboard height divided by the width of the solvent area, greater than or equal to 0.7. As indicated in EPA's Office of Air Quality Planning and Standards Guidelines for Control of Volatile Organic Emissions from Solvent Metal Cleaning (solvent metal cleaning control techniques guidelines or CTG), utilization of this freeboard ratio will result in a 25%-30% VOC control efficiency from the cold cleaning process. See EPA-450/2-77-022, November 1977.

The cold cleaner that Valgroup proposed to install is not designed as a top hinged-lid tank containing solvent. Instead, metal parts are loaded into the empty cleaner via a side door which is then closed. The solvent is held in a separate storage tank and pumped into the cleaner, washing the metal parts and draining back into the separate storage tank. Therefore, there is no volume of liquid solvent in the cold cleaner to form a freeboard ratio for Valgroup to comply with.

The second compliance option listed at OAC 3745-21-09(O)(2)(c)(2) requires the source to utilize a solvent that is heavier than water and then keep a water cover on top of the solvent. As indicated in EPA's Compilation of Air Pollutant Emissions Factors from Stationary Sources (AP-42), use of a water cover results in a 55%-69% VOC control efficiency. However, Valgroup's cold cleaner does not maintain a constant level of solvent in the wash chamber. As described above, the solvent is instead drained back into a separate storage tank. Additionally, in its December 27, 2022, request, Valgroup indicated that the solvent utilized in the cold cleaner is less dense than water. Therefore, there is no technically-feasible way for Valgroup's cold cleaner to comply with the water cover requirement at OAC 3745-21-09(O)(2)(c)(2).

The third control device compliance option for Valgroup's cold cleaner, at OAC 3745-21-09(O)(2)(c), is for “[o]ther systems of equivalent control . . . approved by the director”. In Valgroup's December 27, 2022, request, the company proposed an RTO that could meet an overall VOC destruction efficiency of 88%. The overall VOC destruction efficiency is based on 90% capture efficiency and 98% control efficiency between the inlet and outlet of the RTO. The 88% overall destruction efficiency exceeds the freeboard and water cover compliance options in OAC 3745-21-09(O)(2)(c). So long as Ohio requires the Valgroup cold cleaner RTO to meet a control efficiency equivalent to or better than the freeboard and water cover compliance options, the RTO is approvable into the Ohio SIP.

Ohio EPA reviewed the proposed RTO's specifications as part of its examination of Valgroup's December 27, 2022, request and in its July 18, 2023, permit-to-install for Valgroup. Ohio EPA listed the 88% overall destruction efficiency, 90% capture efficiency, and 98% control efficiency as terms and conditions for the unit in paragraphs C.2.b)(1), C.2.b)(1)d., C.2.b)(2), and C.2.b)(2)(d. of the permit-to-install. The limit is more stringent than the freeboard and water cover compliance options outlined in 3745-21-09(O)(2)(c) and therefore is approvable into the Ohio SIP.

In addition to a VOC control requirement, the July 18, 2023, permit-to-install also contains recordkeeping and reporting requirements for the RTO. Paragraphs C.2.d) and C.2.d)(1) of the permit-to-install require Valgroup to maintain a daily log of operating time for the RTO and monitoring equipment and record all 3-hour periods of operation when the average combustion temperature in the RTO was more than 50 degrees Fahrenheit below the average combustion temperature measured during the unit's most recent compliance test. Until the unit has been compliance tested, the RTO must be operated and maintained in accordance with the manufacturer's instructions and operating manual. Paragraphs C.2.e) and C.2.e)(2) require Valgroup to submit quarterly summaries of the operating time and 3-hour average combustion temperatures of the RTO, on a set calendar date schedule. EPA has determined that the recordkeeping and reporting requirements for the RTO are appropriate compliance demonstration mechanisms to ensure that the VOC control requirements are being met, and that these compliance demonstration requirements are approvable into the Ohio SIP.

III. What action is EPA taking?

EPA is proposing to approve the addition of paragraphs C.2.b)(1), C.2.b)(1)d., C.2.b)(2), C.2.b)(2)d., C.2.d), C.2.d)(1), C.2.e), and C.2.e)(2) as listed in the July 18, 2023, permit-to-install for the Valgroup company into the Ohio SIP.

IV. Incorporation by Reference

In this rulemaking, EPA is proposing to include in a final EPA rule regulatory text that includes incorporation by reference. In accordance with requirements of 1 CFR 51.5, EPA is proposing to incorporate by reference certain provisions of the Ohio Division of Air Pollution Control Permit-to-Install for Valgroup's Findlay, Ohio plastic extrusion plant, effective July 18, 2023, as described in section III of this preamble. EPA has made, and will continue to make, these documents generally available through https://www.regulations.gov and at the EPA Region 5 Office (please contact the person identified in the FOR FURTHER INFORMATION CONTACT section of this preamble for more information).

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rulemaking does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

Ohio EPA did not evaluate EJ considerations as part of its SIP submittal; the CAA and applicable implementing regulations neither prohibit nor require such an evaluation. EPA did not perform an EJ analysis and did not consider EJ in this action. Consideration of EJ is not required as part of this action, and there is no information in the record inconsistent with the stated goal of E.O. 12898 of achieving EJ for communities with EJ concerns.

List of Subjects in 40 CFR Part 52

Environmental protection, Air pollution control, Incorporation by reference, Intergovernmental relations, Ozone, Reporting and recordkeeping requirements, Volatile organic compounds.

Dated: October 2, 2024.
Debra Shore,
Regional Administrator, Region 5.

[FR Doc. 2024-23140 Filed 10-4-24; 8:45 am]

BILLING CODE 6560-50-P